DEPARTMENT OF HOMELAND SECURITY

Coast Guard

46 CFR Parts 10, 11, 12, 13, 15, 16, 30, 35 and 39

[Docket No. USCG-2021-0097]

RIN 1625-AC75

Electronic Submission of Mariner Course Completion Data

AGENCY: Coast Guard, DHS.

ACTION: Notice of proposed rulemaking.

SUMMARY: The Coast Guard proposes to require Coast Guard-approved training providers to electronically submit student course completion data to the Coast Guard within 5 business days of completing a Coast Guard-approved course. The National Maritime Center would use this information to validate mariner course completion as part of an application for a Merchant Mariner Credential. In addition, the Coast Guard proposes to replace gendered titles for certain officer and rating endorsements in keeping with Coast Guard policy of using gender-neutral language. We expect these proposed changes to lessen the probability of credentials being issued to mariners who have not met the professional requirements for their endorsements and to appropriately conform terms that should be gender-neutral.

DATES: Comments and related material must be received by the Coast Guard on or before July 5, 2023.

ADDRESSES: You may submit comments identified by docket number USCG-2021-0097 using the Federal eRulemaking Portal at https://www.regulations.gov. See the “Public Participation and Request for Comments” portion of the SUPPLEMENTARY INFORMATION section for further instructions on submitting comments.

Collection of information. Submit comments on the collection of information discussed in section VI.D. of this preamble both to the Coast Guard's online docket and to the Office of Information and Regulatory Affairs (OIRA) in the White House Office of Management and Budget (OMB) using their website www.reginfo.gov/public/do/PRAMain. Comments sent to OIRA on the collection of information must reach OMB on or before the comment due date listed on their website.

FOR FURTHER INFORMATION CONTACT: For information about this document call or email Mr. Brian T. Eichelberger, Office of Merchant Mariner Credentialing, Coast Guard; telephone 202-372-1450, email Brian.T.Eichelberger@uscg.mil.

SUPPLEMENTARY INFORMATION:

Table of Contents for Preamble

I. Public Participation and Request for Comments

II. Abbreviations

III. Basis and Purpose

IV. Background

V. Discussion of Proposed Rule

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Public Participation and Request for Comments

The Coast Guard views public participation as essential to effective rulemaking, and will consider all comments and material received during the comment period. Your comment can help shape the outcome of this rulemaking. If you submit a comment, please include the docket number for this rulemaking, indicate the specific section of this document to which each comment applies, and provide a reason for each suggestion or recommendation.

Submitting comments. We encourage you to submit comments through the Federal eRulemaking Portal at https://www.regulations.gov. To do so, go to https://www.regulations.gov, type USCG-2021-0097 in the search box, and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions (FAQ) web page. That FAQ page also explains how to subscribe for email alerts that will notify you when comments are posted or if a final rule is published. We review all comments received, but we will only post comments that address the topic of the proposed rule. We may choose not to post off-topic, inappropriate, or duplicate comments that we receive.

Personal information. We accept anonymous comments. Comments we post to https://www.regulations.gov will include any personal information you have provided. For more about privacy and submissions in response to this document, see the Department of Homeland Security's eRulemaking System of Records notice (85 FR 14226, March 11, 2020).

Public meeting. We do not plan to hold a public meeting, but we will consider doing so if we determine from public comments that a meeting would be helpful. We would issue a separate Federal Register notice to announce the date, time, and location of such a meeting.

II. Abbreviations

DHS Department of Homeland Security

FR Federal Register

ICR Information collection request

MRN Mariner reference number

MMC Merchant Mariner Credential

MMLD Merchant Mariner Licensing and Documentation

MTAD Marine Training and Assessment Data

NMC National Maritime Center

NPRM Notice of proposed rulemaking

OMB Office of Management and Budget

QSS Quality Standard System

RA Regulatory analysis

STCW International Convention on Standards of Training, Certification, and Watchkeeping, 1978, as amended

§ Section

U.S.C. United States Code

III. Basis and Purpose

The legal basis of this rulemaking is Title 46 of the United States Code (U.S.C.), Sections 7101(b) and 7301(b), which authorize the Secretary of the department in which the Coast Guard is operating to prescribe regulations relating to issuing Merchant Mariner Credentials (MMCs) for officer and rating endorsements. The Secretary of the Department of Homeland Security (DHS) has delegated the rulemaking authority under 46 U.S.C. 7101(b) and 7301(b) to the Coast Guard through 46 U.S.C. 2104 and DHS Delegation No. 00170.1, Revision No. 01.3, paragraph (II)(92)(e). Additionally, 14 U.S.C. 102(3) grants the Coast Guard broad authority to issue and enforce regulations to promote safety of life and property on waters subject to the jurisdiction of the United States, which includes establishing the experience, professional qualifications, and processes required for issuing credentials.

This proposed rule would require Coast Guard-approved training providers to submit students' course completion data electronically to the Coast Guard within 5 business days of the course ending. This action would lessen the probability of issuing MMCs to mariners who have not met the professional requirements for their endorsements and improve the efficiency of the credentialing process. In addition, the proposed rule would replace gendered titles for certain officer and rating endorsements to align with the Coast Guard's policy of using gender-neutral language.

IV. Background

The Coast Guard issues MMCs to mariners who have met the regulatory requirements for individual endorsement(s), as described in title 46 of the Code of Federal Regulations (CFR), parts 10, 11, 12, and 13. Professional requirements for an MMC endorsement generally include sea service, completion of Coast Guard-approved training, and having a met a standard of competence through practical demonstration and completion of a written examination.

Title 46 CFR 10.209(a) states that for any application for an MMC, whether for an original, renewal, duplicate, raise of grade, or new endorsement on a previously issued MMC, the applicant must establish that they satisfy all the requirements for the MMC and endorsement(s) sought before the Coast Guard will issue the MMC. When an individual submits a Form CG-719B Application for an MMC to the Coast Guard, supporting documentation must be included to establish that they have met the requirements for individual MMC endorsement(s). Supporting documentation for an MMC application may include evidence of sea service, course or program completion certificates, and documentation of having met a required standard of competence as appropriate for the endorsement requested.

The National Maritime Center (NMC), in accordance with the requirements of 46 CFR part 10, subpart D, approves training required for MMC endorsements. As described in 46 CFR 10.402, the Coast Guard may approve training designed to fulfill or substitute for MMC requirements, including a portion of required sea service, an examination required by the Coast Guard, professional competency requirements, or other regulatory requirements.

The general standards for Coast Guard-approved courses and programs are found in 46 CFR 10.403. Coast Guard-approved training providers are required to maintain physical or electronic records of all students who took a course for at least 5 years after the completion of the course. Although Coast Guard-approved training providers are required to maintain these student records, there is no requirement for them to submit a student's course completion data to the Coast Guard. The NMC receives approximately 55,000 MMC applications annually. Coast Guard evaluators at the NMC review applications for MMCs to determine whether the mariner has met the regulatory requirements for the endorsement(s) that they are seeking. The NMC uses the Merchant Mariner Licensing and Documentation (MMLD) database to maintain records of U.S. merchant mariners and issue MMCs to qualified mariners.

Validation of data has been a longstanding challenge for the mariner credentialing program. In 2011, Transport Canada conducted an independent evaluation of how the United States implemented the International Convention on Standards of Training, Certification, and Watchkeeping, 1978 as amended (STCW). The evaluation noted that the Coast Guard could not provide evidence of having established sufficient procedures and controls to ensure the authenticity and validity of documents submitted as part of an MMC application package. In 2016, Transport Canada conducted another independent evaluation of how the United States implemented STCW and restated the lack of verification controls to ensure the validity and authenticity of documents submitted as part of an MMC application package.

In 2019, as part of an ongoing investigation surrounding mariner examinations, the Coast Guard discovered that over an extended period, numerous mariners had submitted fraudulent course completion certificates to the NMC as part of their MMC application. As of June 2021, the Coast Guard identified 428 mariners involved in course certificate fraud since 2016.¹ In the absence of available procedures and resources to validate the authenticity of course completion certificates, the NMC accepted fraudulent certificates submitted by mariners as part of an MMC application package as evidence of completing required training for an MMC endorsement. As a result, the Coast Guard-issued these mariners endorsements that they were not professionally qualified to hold.

¹ Email communication with Mariner Credentialing Fraud Task Force from July 20, 2021.

While training providers are required to retain course completion data, they are not required to submit the data to the Coast Guard. The Coast Guard typically reviews those records only as part of an audit of Quality Standard Systems (QSS) of Coast Guard-approved training providers under 46 CFR 10.410(g), as well as Coast Guard administrative visits and inspections under 46 CFR 10.403(a)(9). The Coast Guard is proposing to require Coast Guard-approved training providers to submit course completion data electronically to the Coast Guard within 5 business days of the course's completion. This data would be used to verify that mariners have met the regulatory training requirements for the MMC endorsements requested, and reduce opportunities for fraudulent information being accepted as part of an MMC application package.

The titles of MMC endorsements are prescribed in 46 CFR 10.109. This proposed rule would make non-substantive changes to 46 CFR parts 10, 11, 12, 13, 15, 16, 30, 35, and 39 to ensure the titles of certain officer and rating endorsements are gender-neutral to align with the Coast Guard's policy of removing gendered language from its rules and regulations. This policy is demonstrated by final rules published in 2002 and 2012 that made technical amendments to the CFR in order to remove gendered language.²

² The rule published on September 30, 2002 (67 FR 61276) made changes to 46 CFR part 401 to change any use of the word “he” to “the individual.” The rule published on October 1, 2012 (77 FR 59768) changed the definition of “Secretary of Homeland Security” in 46 CFR part 401, to include “he or she” and “his or her” rendering it gender-neutral.

V. Discussion of Proposed Rule

This proposed rule would amend 46 CFR 10.403 to require Coast Guard-approved training providers to submit data on Coast Guard-approved courses conducted and mariners completing the courses to the NMC.

The information would be submitted electronically, in a manner specified by the Coast Guard, within 5 business days of completing a Coast Guard-approved course. Mariners submitting course completion data to the Coast Guard as part of their MMC application and Coast Guard-approved training providers submitting course completion data electronically to the Coast Guard would attest, under criminal penalty, that the records are accurate to the best of their knowledge and that no false entries or statements were made. See 18 U.S.C. 1001. The NMC would use this information to validate that mariners have completed the training required for the MMC endorsement requested. This action would lessen the probability of the Coast Guard accepting a fraudulent course completion certificate as part of an application for an MMC and improve the efficiency of the credentialing process.

The proposed 5-business day window to submit course completion data would ensure that a mariner's application would not be delayed because the NMC is waiting for training providers to submit the course completion data. Delaying the evaluation of an application and issuance of an MMC may result in loss of employment for a mariner, which is in conflict with NMC's mission to issue credentials to fully qualified mariners in the most effective and efficient manner possible.

Although the Coast Guard would electronically receive course completion data, Coast Guard-approved training providers should continue to issue course completion certificates to their students. Mariners would still be responsible for including their course completion certificates as supporting documentation with their MMC application package. This would allow Coast Guard evaluators to validate the information submitted by the mariner with their MMC application against the information submitted electronically by the training provider.

Under this proposed rule, training providers would be required to submit the name of the training provider, the training provider's Coast Guard-issued provider code, the title of the Coast Guard-approved course or program, the Coast Guard-issued course code, the dates the training provider held the course, and the name of the approved instructor. This information would allow the Coast Guard to validate that a course was approved by the Coast Guard, conducted by an approved instructor, and the dates the course was conducted. The proposed electronic submission would also require the student's full name as it appears on their MMC or other valid Government-issued identification, and their Coast Guard-issued mariner reference number (MRN), or their date of birth and place of birth if they do not currently have an MRN.³ This information is critical should the Coast Guard need to verify whether a student attended a certain course or program.

³ The Coast Guard handles personally identifiable information (PII) according to the DHS Handbook for Safeguarding Sensitive PII. A privacy impact assessment for the Merchant Mariner Licensing and Documentation System can be found online at https://www.dhs.gov/publication/dhsuscgpia-015-merchant-mariner-licensing-and-documentation-system. The applicable System of Records Notice (SORN) is DHS/USCG-030 Merchant Seamen's Records, 74 FR 30308 (June 25, 2009).

The Coast Guard seeks comments regarding how course completion data from Coast Guard-approved courses can be submitted electronically to the Coast Guard. Submitting copies of course completion certificates by email, sending data files or spreadsheets listing required information, or adding data through a direct system entry or forms have been used or suggested as methods. The Coast Guard seeks specific information (example: data file type) and recommendations of how Coast Guard-approved training providers would submit this data. Information received through public comments will be used to determine the most effective method for training providers to submit course completion data to the Coast Guard. If a final rule is published, the Coast Guard will provide guidance to specify the submission process.

The Coast Guard has a voluntary program for submitting course completion data electronically through Homeport.⁴ Currently, approximately 30 Coast Guard approved training providers voluntarily submit information to the Coast Guard using Homeport. This process is more fully discussed in the regulatory analysis of this proposal.

⁴ Homeport is the Coast Guard's enterprise internet portal for the maritime community and can be accessed at https://homeport.uscg.mil/.

The Coast Guard recognizes that Homeport may be limited in the volume of submissions it can support as we move from voluntary to mandatory electronic submission of course completion data. The Coast Guard is currently in the process of replacing MMLD with a more secure, agile, and user-friendly system that provides better service to the maritime industry. This new system has yet to be developed, and the best way for training providers to comply with the proposed requirements to electronically submit course completion data continues to be through Homeport. When the new system is developed and fully operational, the Coast Guard will publish a document announcing that in the Federal Register and detailing the new system and best practice for compliance. The new system is not being created specifically for the electronic submission of mariner course completion data, so the cost of the new IT system will not be included in this proposed rule's cost analysis.

The Coast Guard understands that instant compliance upon publication of the final rule finalizing the new system may not be feasible for many training providers submitting mariner course completion data. For that reason, in this rulemaking the Coast Guard seeks public input regarding what a reasonable length of time would be needed to allow course providers to modify their procedures following publication of a final rule, as well as what kind of adjustments training providers would be required to make in order to pivot from current practices to compliant practices. The Coast Guard is taking comment on whether or not a “phased-in” applicability or multiple phased in applicability period(s) is necessary for training providers to modify their procedures to meet the proposed requirements set forth in this NPRM. If a final rule is published before the implementation of a system to replace MMLD, the Coast Guard will work with course providers to ensure they can submit course completion data using the existing Homeport process. The Coast Guard also seeks comments from training providers explaining what alternative approaches they might use in the event of IT issues. Public comments may include new information about any aspect of the proposed rule that would require a revision of the cost analysis. If that occurs, the Coast Guard will update it and publish a Supplemental Notice of Proposed Rulemaking (SNPRM) with the revised cost analysis, so that the public can ascertain the new cost of the proposed rule. An SNPRM will also begin a new period of public comments, so the Coast Guard can receive additional comments, including feedback on the revised cost analysis of the proposed rule. As any potentially impactful information from public comments are not known at this time, it is impossible to incorporate that information into the current cost analysis.

This NPRM also proposes to amend 46 CFR parts 10, 11, 12, 13, 15, 16, 30, 35, and 39 to ensure the names of certain officer and rating endorsements are gender-neutral. If a final rule is published, the Coast Guard will update any other regulations using the historical endorsement titles through future rulemakings. In this initiative, the Coast Guard specifically proposes to change the following endorsement titles as described in table 1:

Table 1—Proposed Nomenclature Changes to 46 CFR Parts 10, 11 12, 13, 15, 16, 30, and 35
Current CFR | Nomenclature change
Apprentice mate (steersman) | Apprentice mate towing.
Crewman | Crew.
Fireman | Boiler technician.
Hospital corpsman | Medical technician.
Lifeboatman | Lifeboat operator.
Pumpman | Pump technician.
Seaman | Seafarer.
Tankerman | Tank vessel.

If a final rule is issued, the Coast Guard would no longer issue endorsements using the current endorsement titles. Mariners would not have to submit an application to have the endorsements titles changed on their MMC. The endorsement titles would be updated at the next credential transaction when an application is submitted to the Coast Guard.

The Coast Guard is proposing to change the name of the Able Seaman endorsement to Able Seafarer. To differentiate in 46 CFR 10.231(c)(6)(ii) between the already established STCW endorsements of Able Seafarer-Deck and Able Seafarer-Engine and the proposed Able Seafarer endorsements, the endorsements would be referred as national Able Seafarer.

In addition, in some provisions of 46 CFR part 12, the legacy names of endorsements would not be changed to the proposed names. Specifically, §§ 12.501(b)(2) 12.607(b), 12.613(c), and 12.615(c) reference endorsements that would have been held before 2017 and would have been held with the legacy name.

Finally, the Coast Guard is proposing to remove the expired grandfathering provisions in 46 CFR 13.603(e), 13.605(e), 13.607(e), 13.609(b), and 13.611(b). These provisions provided a method for mariners who held valid national tankerman endorsements issued before March 24, 2014 to qualify for original STCW tanker cargo operations endorsements. Any national tankerman endorsements issued before March 24, 2014 would have expired as of March 23, 2019; therefore, the grandfathering provisions have expired and mariners who wish to obtain original STCW tanker cargo endorsements must meet the requirements of the applicable section.

VI. Regulatory Analyses

We developed this proposed rule after considering numerous statutes and Executive orders related to rulemaking. A summary of our analyses based on these statutes or Executive orders follows.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility.

The Office of Management and Budget (OMB) has not designated this proposed rule a significant regulatory action under section 3(f) of Executive Order 12866. OMB has not reviewed this rule. Table 2 shows the summary of the estimated impacts of this proposed rule. A regulatory analysis (RA) follows.

Table 2—Summary of the Impacts of the Proposed Rule
Category | Summary
Affected Population | Approximately 236 Coast Guard-approved training providers out of a total population of 326 providers.
Cost to Industry over 10 Years (2021 dollars, 7% discount rate) | Between $242,490 and $1,327,767.
Cost to Government over 10 Years (2021 dollars, 7% discount rate) | $371,894.
Unquantified Benefits | The proposed rule would reduce the probability of mariners obtaining an MMC without meeting the regulatory training requirements, which in turn would reduce fraud and improve safety onboard vessels. The rule serves the Coast Guard mission of Maritime Prevention, which requires the Coast Guard to prevent marine casualties and property loss.

Affected Population

The affected population for this proposed rule includes training providers approved by the NMC who offer training to meet the regulatory requirements for MMC endorsements. From 2010 to 2019, NMC reports that the number of Coast Guard-approved training providers ranged from a low of 299 training providers in 2010 to a high of 340 training providers in 2016, with an average of 326 training providers. The number of courses approved by the Coast Guard ranged from a low of 2,835 courses in 2010 to a high of 3,252 courses in 2017, for an average of 3,115 courses that were approved by the Coast Guard in a given year. The number of Coast Guard-approved courses offered by each training provider varies greatly depending on demand for the course, instructor availability, etc. Many providers may offer a single course, while some providers offer as many as 107 courses. The average number of courses per training provider is 6 courses, and there is a mode of 1 course offered per training provider.

Figure 1 shows the distribution of how many Coast Guard-approved courses each training provider has in a given year. The first bar shows that 164 training providers have between 1 and 7 approved courses. The NMC does not track how many times a training provider offers each of their approved courses; it is possible that a training provider with only one Coast Guard approved course offers that course multiple times in a year. The analysis for this proposed rule focuses on the number of student records submitted rather than the number of courses offered, in order to best account for the unknown frequency in course offerings.

All course approvals are valid for 5 years per 46 CFR 10.407(e) and are not contingent on the frequency a Coast Guard-approved training provider may offer a course. The NMC receives mariner course completion data in two ways: as part of a mariner's MMC application, or through a training provider's electronic submission to the Coast Guard through Homeport. Applicants submit course completion certificates as evidence that they have met the regulatory training requirement for the MMC endorsement(s) they are requesting. As part of the evaluation of an MMC application, Coast Guard evaluators verify that a course completion certificate from a Coast Guard-approved training provider is submitted for each course required to obtain the requested endorsement, and NMC adds the course completion data to the mariner's record within MMLD manually.

In 2010, a secondary method to receive course completion data was established. Coast Guard approved training providers could now voluntarily submit course completion data electronically to the Coast Guard through Homeport, the Coast Guard's enterprise internet portal for the maritime community. Homeport's secure, role-based environment brings together Coast Guard personnel, members of the maritime community, and other designated individuals allowing them to share information quickly. The course completion data provided through Homeport is added to a database known as MTAD (Mariner Training and Assessment Data) and is then uploaded to individual mariner records in MMLD.

From 2010 to 2020, an average of 68,783 course completion records were submitted to the Coast Guard annually, of which an average of 12,498 course completion records were submitted by training providers electronically through Homeport. All other records were submitted by mariners as part of their application for an MMC. If a final rule is published, training providers will be submitting all the data electronically through Homeport. This proposed rule would require training providers to electronically submit course completion data directly to NMC. To validate the course completion data provided with a mariner's MMC application package, Coast Guard evaluators would match information submitted electronically by the training provider to the documentation provided by the mariner with their MMC application.

The Homeport Submissions column shows the number of student records that training providers submitted electronically through Homeport over a 10-year period, and can be considered the pilot program for the rulemaking. The cost estimate of the proposed rule includes the annual cost of submitting course completion data through Homeport over a 10-year period.

Table 3—Number of Student Records Submitted Electronically Annually
Year | Homeport submissions | Total (homeport submissions & MMC applications)
2010 | 1,555 | 47,320
2011 | 3,011 | 55,250
2012 | 7,018 | 61,853
2013 | 12,348 | 70,770
2014 | 14,151 | 79,391
2015 | 17,640 | 81,202
2016 | 21,903 | 86,891
2017 | 19,090 | 70,723
2018 | 20,499 | 76,014
2019 | 12,596 | 70,710
2020 | 7,664 | 56,486
Average | 12,498 | 68,783

Cost to Industry

The cost of submitting course completion data through Homeport from 2010 to 2020 was $269,946, for an average of $24,541 per year. This has an annualized cost of $22,787 at the 7% discount rate. This cost may be considered the pilot program of the proposed rule and is not included in the cost analysis, as those training providers who already submit course completion data through Homeport have been included in the industry cost below. The cost of the pilot program is detailed in Table 4.

Table 4—Cost of Submissions Through Homeport, 2010-2020
Year | MTAD | Time to submit (hours) | Wage of submitter (hourly) | Yearly cost | 3% | 7%
2010 | 1,555 | 0.04 | $49.09 | $3,053 | $4,226 | $6,426
2011 | 3,011 | 0.04 | 49.09 | 5,912 | 7,945 | 11,630
2012 | 7,018 | 0.04 | 49.09 | 13,781 | 17,981 | 25,336
2013 | 12,348 | 0.04 | 49.09 | 24,247 | 30,715 | 41,661
2014 | 14,151 | 0.04 | 49.09 | 27,787 | 34,175 | 44,620
2015 | 17,640 | 0.04 | 49.09 | 34,638 | 41,360 | 51,982
2016 | 21,903 | 0.04 | 49.09 | 43,009 | 49,859 | 60,322
2017 | 19,090 | 0.04 | 49.09 | 37,485 | 42,190 | 49,135
2018 | 20,499 | 0.04 | 49.09 | 40,252 | 43,984 | 49,310
2019 | 12,596 | 0.04 | 49.09 | 24,734 | 26,240 | 28,318
2020 | 7,664 | 0.04 | 49.09 | 15,049 | 15,500 | 16,102
Average | 12,498 |  | Total | 269,946 | 314,176 | 384,843
|  |  | Annualized |  | 23,816 | 22,787
Note: Figures may not sum due to rounding.

The main industry cost of the proposed rule for training providers is the additional time they would spend submitting course completion data to NMC: there are approximately 326 providers, who would submit an annual average of 68,783 records. Additionally, training providers would have to register for an account to use Homeport.

Cost to the government is detailed in the “Cost to the Federal Government” section. The initial cost to training providers would be the cost of time spent to register for a Homeport account so that they can submit course completion data. According to an NMC Subject Matter Expert (SME) familiar with Homeport, they estimate it would take a training provider 20 minutes to establish a Homeport account. All 326 providers would need to establish an account and given the wages for the personnel who would register the account, we find that the cost to industry would be a one-time total of $5,334.

Table 5—The Cost to Training Providers To Establish a Homeport Account
Number of training providers | Time to complete | Wages | Total cost
A | B | C | A*B*C
326 | .33 hours (20 minutes) | $49.09/hour | $5,334

To estimate the time cost for submitting records electronically, we surveyed training providers that currently use Homeport. Under the limits of the Paperwork Reduction Act of 1995 (44 U.S.C. 3501-3520), we contacted eight providers and received four complete responses back, three of which quantified the time required to submit data through Homeport. If you have comments or questions concerning the sample, data, or assumption, please submit them identified by docket number USCG-2021-0097 using the Federal eRulemaking Portal at https://www.regulations.gov.

It is assumed that if the Coast Guard implements a new IT system, training providers would spend the same amount of time submitting course completion data through the new IT system as they do submitting through Homeport.

The key questions asked as part of the survey were:

• “Excluding time already spent on issuance of conventional paper course completion certificates, what is the minimum additional amount of time you estimate it takes to enter data into Homeport for each course?”

• “What is the maximum additional amount of time you estimate it takes to enter data into Homeport for each course?”

Using an average of the three survey responses, we estimate the time to submit each student record to be approximately 0.0114 hours (0.68 minutes) on the lower end and 0.0688 hours (4.13 minutes) on the higher end. Assuming that each course has an average of 20 students, the total hours of submission per course would be a range of .228 hours and 1.376 hours. The loaded mean hourly wage rate of submitters is approximately $49.09 for 2021, derived from an unloaded mean hourly wage rate of $32.51 for Training and Development Specialists ⁵ and a load factor of 1.51.⁶ Applying the loaded hourly wage rate to the burden range, we estimate a total cost range of approximately $0.56 to $3.38 per student record. We estimate that training providers would submit 68,783 student records electronically annually, equal to the 10-year average number of student records manually entered to MMLD. Table 6 shows the calculation of the total cost to training providers of this proposed rule when we multiply the hourly burden per student record by the number of new records submitted electronically. We then multiply this amount by the wage of submitters.

⁵ The 2021 mean hourly wage rate of $32.51 is for Training and Development Specialists. https://www.bls.gov/oes/2021/may/oes131151.htm.

⁶ We calculated the load factor by dividing total compensation by wages and salaries, (56.56/37.42) = a load factor of 1.51. Bureau of Labor Statistics' National Compensation Survey, September 2021. “Table 4. Civilian workers, by industry group: employer costs per hour worked for employee compensation and costs as a percentage of total compensation—Educational Services,” epage 112. https://www.bls.gov/web/ecec/ececqrtn.pdf.

We estimate the total discounted cost of the proposed rule on the lower end, as shown in Table 7. The total 10-year discounted cost would be approximately $237,156 at the 7% discount rate, and the annualized costs to be approximately $33,766 at the 7% discount rate.

Table 7—Estimated Cost to Training Providers of the Proposed Rule: Low Estimate, 10 Years
[2021 Dollars]
Year | Total cost | 3% | 7%
1 | $33,766 | $32,782 | $31,557
2 | 33,766 | 31,827 | 29,492
3 | 33,766 | 30,900 | 27,563
4 | 33,766 | 30,000 | 25,760
5 | 33,766 | 29,127 | 24,074
6 | 33,766 | 28,278 | 22,499
7 | 33,766 | 27,455 | 21,028
8 | 33,766 | 26,655 | 19,652
9 | 33,766 | 25,879 | 18,366
10 | 33,766 | 25,125 | 17,165
Total | 337,656 | 288,028 | 237,156
Annualized |  | 33,766 | 33,766
Note: Figures may not sum due to rounding.

We also estimated the total discounted cost of the proposed rule on the higher end, as shown in Table 8. The total 10-year discounted cost would be approximately $1,322,433 at the 7% discount rate. We estimate the annualized costs to be about $188,285 at the 7% discount rate.

Table 8—Estimated Costs to Training Providers of the Proposed Rule: High Estimate, 10 Years
[2021 Dollars]
Year | Total cost | 3% | 7%
1 | $188,285 | $182,801 | $175,967
2 | 188,285 | 177,476 | 164,455
3 | 188,285 | 172,307 | 153,696
4 | 188,285 | 167,289 | 143,642
5 | 188,285 | 162,416 | 134,244
6 | 188,285 | 157,686 | 125,462
7 | 188,285 | 153,093 | 117,254
8 | 188,285 | 148,634 | 109,583
9 | 188,285 | 144,305 | 102,414
10 | 188,285 | 140,102 | 95,714
Total | 1,882,848 | 1,606,107 | 1,322,433
Annualized |  | 188,285 | 188,285
Note: Figures may not sum due to rounding.

The total cost to training providers of the proposed rule over a 10-year period includes both the one-time cost of establishing a Homeport account ($5,334) and the cost of electronically submitting course data over 10 years, including a low estimate ($337,656) and a high estimate ($1,882,848). The 7% discount cost of the rule over 10 years is between $237,156 and $1,322,433.

Therefore, the total cost of the rule to training providers is between $342,990 and $1,888,182, with a mean of $1,115,586. The total discounted cost over 10 years, is between $242,490 and $1,327,767, with a mean of $785,129.

Cost to the Federal Government

The cost to government includes the cost of Coast Guard personnel to verify training provider accounts on Homeport, and the wages of personnel who would verify course completion data in MMLD for the amount of time they would perform that work.

In order for a training provider to be able to electronically submit course completion data through Homeport, they must first establish a user account by registering on the site. User accounts must be verified by Coast Guard personnel at the NMC before they can be ready for use. According to a NMC SME familiar with Homeport, it would take a GS-07 approximately 20 minutes to verify a Homeport user account. NMC personnel would need to verify the Homeport user accounts for all 326 training providers.

Wages for civilian federal employees are calculated by taking the wages for a federal employee in their locality, with their grade, at a step of 5 (which is considered an average). For a GS-07 employee in the national capital region, this is $26.69 per hour as of January 2021. To account for the total cost of the position, wages must be multiplied by a load factor, which found by taking the total compensation for federal employees and dividing by average wages for federal employees.⁷ The calculation creates a load factor of 1.69, and when multiplied by the hourly wage, the total wages for a GS-07 employee becomes $45.11 per hour.

⁷ Congressional Budget Office, Comparing the Compensation of Federal and Private-Sector Employees, 2011 to 2015 (April 2017), www.cbo.gov/publication/52637.

“Federal and Private-Sector Total Compensation, by Workers' Educational Attainment”: Federal Government, All Levels of Education. Page 16.

“Federal and Private-Sector Wages, by Workers' Educational Attainment”: Federal Government, All Levels of Education. Page 11.

The total cost of verification would be a one-time cost of $4,902, as detailed in Table 9.

Table 9—Cost to Government of Verifying Homeport User Accounts
Number of training providers | Time to verify a new homeport user account | GS-07 wages | Total cost
A | B | C | A*B*C
326 | 20 minutes (.33 hours) | $45.11/hour | $4,902

The course completion data that the training provider submits through Homeport is added to the MTAD database and is automatically matched to the mariner's profile in the MMLD using the individual's MRN. If a mariner does not have an MRN, such as when they are completing courses in anticipation of applying for their first MMC, the course data appears in MMLD as an unmatched entry because it does not match to an existing MRN. This situation prompts manual review by personnel at NMC.

The mariner provides their Social Security number as required on Form CG-719B, and they are issued an MRN after they apply for their first MMC. The MRN is used by the Coast Guard to identify them in all future credentialing transactions, and all records are matched to the MRN rather than the Social Security number. Students may voluntarily submit their Social Security number to a training provider as a means of identifying them with their records.

However, records may not match due to a misspelling or other error in data entry. If neither a Social Security number nor an MRN are provided, the certificate would remain unmatched to a mariner's record in MMLD until it can be matched manually. The need for manual review to match records in MMLD represents a cost to the Coast Guard.

The Coast Guard estimates that manually matching records in MMLD would require 3 hours per week at the GS-7 level and 0.5 hours per week at the GS-13 level for the current 18 percent of course completion records entered into the MMLD. This number would need to be projected at an additional 82 percent when all Coast Guard-approved training providers submit course completion data to the NMC. The projected total cost to the Coast Guard would be an additional 17 hours per week at the GS-7 level, and 2.5 hours per week at the GS-13 level. There would be a total annual burden of 1,014 hours—884 hours for a GS-7 and 130 hours for a GS-13.

Total wages for GS-07 employees are $45.11 per hour, and total wages for GS-13 are $95.16 per hour.⁸

⁸ GS-07 Step 5: 26.69 × 1.69 = 45.11 per hour, GS-13 Step 5: 56.31 × 1.69 = 95.16 per hour.

To find the cost of the proposed rule to the federal government over a 10 year period, we must first multiply the wages of personnel by the hours they would work verifying course completion data in a given year. For GS-07 personnel, they would work for 884 hours at the rate of $45.11 per hour, totaling to $39,877. For GS-13 personnel, they would work for 130 hours at the rate of $95.16 per hour, totaling to $12,371. Combining these figures, the proposed rule would cost the federal government $52,248 over 10 years. If we divided this amount by the total hours of verification, we find the weighted average wage of $51.53. The details of this cost, and the discounted cost at 3% and 7%, are provided in Table 10.

Table 10—Estimated Costs of the Proposed Rule to the Federal Government: 2022 Dollars
Year | Total time (hours) | Weighted average wage | Total annual | 3% Discount | 7% Discount
| A | B | A*B |  |
1 | 1,014 | $51.53 | $52,251 | $50,730 | $48,833
2 | 1,014 | 51.53 | 52,251 | 49,252 | 45,638
3 | 1,014 | 51.53 | 52,251 | 47,817 | 42,653
4 | 1,014 | 51.53 | 52,251 | 46,425 | 39,862
5 | 1,014 | 51.53 | 52,251 | 45,073 | 37,255
6 | 1,014 | 51.53 | 52,251 | 43,760 | 34,817
7 | 1,014 | 51.53 | 52,251 | 42,485 | 32,540
8 | 1,014 | 51.53 | 52,251 | 41,248 | 30,411
9 | 1,014 | 51.53 | 52,251 | 40,046 | 28,421
10 | 1,014 | 51.53 | 52,251 | 38,880 | 26,562
Total |  |  | 522,514 | 445,715 | 366,992
Annualized |  |  |  | 52,251 | 52,251
Note: Figures may not sum due to rounding.

Currently, when a mariner submits a course completion certificate as part of an application, evaluators at NMC enter that data into the mariner's profile in MMLD. Under the proposed rule, rather than spending time entering course completion data, evaluators would verify that the information submitted by the mariner matches the data submitted by the training provider. We do not anticipate there would be a difference in time between entering course completion data and verifying a course completion certificate. Therefore, we do not estimate a cost for verification.

The Coast Guard would not realize cost savings from reduced fraud investigations because it must still investigate accusations of fraud. The additional records generated by this proposed rule would aid in completing investigations accurately and in a timely manner, but would not reduce the number of investigations the Coast Guard must conduct annually.

The total cost to the government is the one-time cost of verification at $4,902 and the 10-year operating cost of $522,514, for a total cost of $527,416. The total cost at a 7% discount over 10 years (including the one-time cost of account verification) would be $371,570.

Net Total Cost of the Proposed Rule

Table 11 shows the net cost of the proposed rule using the lower estimated cost, and Table 12 shows the net cost of the proposed rule using the higher estimated cost.

Table 11—Net Costs of the Proposed Rule: Low Estimate, 2022 Dollars
Year | Cost to training providers (low) | Cost to govt. | Total net cost (low) | 3% Discount | 7% Discount
| A | B | A + B |  |
1 | $33,766 | $52,251 | $86,017 | $83,512 | $80,390
2 | 33,766 | 52,251 | 86,017 | 81,079 | 75,131
3 | 33,766 | 52,251 | 86,017 | 78,718 | 70,215
4 | 33,766 | 52,251 | 86,017 | 76,425 | 65,622
5 | 33,766 | 52,251 | 86,017 | 74,199 | 61,329
6 | 33,766 | 52,251 | 86,017 | 72,038 | 57,317
7 | 33,766 | 52,251 | 86,017 | 69,940 | 53,567
8 | 33,766 | 52,251 | 86,017 | 67,903 | 50,063
9 | 33,766 | 52,251 | 86,017 | 65,925 | 46,788
10 | 33,766 | 52,251 | 86,017 | 64,005 | 43,727
Total |  |  | 860,170 | 733,742 | 604,147
Annualized |  |  |  | 86,017 | 86,017
Note: Figures may not sum due to rounding.

Table 12—Net Costs of the Proposed Rule: High Estimate, 2022
Year | Cost to training providers (low) | Cost to govt. | Total net cost (low) | 3% Discount | 7% Discount
| A | B | A + B |  |
1 | $188,285 | $52,251 | $240,536 | $233,530 | $224,800
2 | 188,285 | 52,251 | 240,536 | 226,728 | 210,093
3 | 188,285 | 52,251 | 240,536 | 220,124 | 196,349
4 | 188,285 | 52,251 | 240,536 | 213,713 | 183,504
5 | 188,285 | 52,251 | 240,536 | 207,488 | 171,499
6 | 188,285 | 52,251 | 240,536 | 201,445 | 160,279
7 | 188,285 | 52,251 | 240,536 | 195,578 | 149,794
8 | 188,285 | 52,251 | 240,536 | 189,881 | 139,994
9 | 188,285 | 52,251 | 240,536 | 184,351 | 130,836
10 | 188,285 | 52,251 | 240,536 | 178,981 | 122,276
Total |  |  | 2,405,358 | 2,051,819 | 1,689,423
Annualized |  |  |  | 240,536 | 240,536
Note: Figures may not sum due to rounding.

The annualized cost of the rule, discounted at 7% over a 10-year period of time, would be between a low estimate of $604,147 and a high estimate of $1,689,423. Adding in the one-time cost for creating a Homeport account for training course providers ($5,334) and the one-time cost for verifying a Homeport account by the government ($4,902) for both the high and low estimates, we find that the total net cost of the rule is between a low estimate of $614,383 and a high estimate of $1,699,659.

Benefits

The Coast Guard has identified that approximately .12% of student course completion data submissions had been fraudulent from 2016 to June 2021. The primary benefit of this proposed rule is prevention of fraud and a reduction of the potential for a mariner to be issued an MMC endorsement they are not qualified to hold. Ensuring mariners have met the requirements for their MMC endorsements would decrease shipboard operational risk . This would improve safety onboard vessels. The proposed rule also serves the Coast Guard mission of Maritime Prevention, which requires the Coast Guard to prevent marine casualties and property loss.

Currently, a mariner course completion data can be verified by having Coast Guard personnel call the training provider to confirm the mariner's reported course completion information matches the records of the provider, and then evaluate any discrepancies. This has been done sporadically when evaluating mariners MMC applications, and instances in which verification was not completed have allowed for a degree of fraud for mariners submitting false or inaccurate documentation supporting their MMC application. Under the proposed rule, both the mariner and the training provider would submit their course completion data to the Coast Guard. The mariner would submit course completion data with their application for an MMC and the training provider would submit course completion data through Homeport. NMC evaluators would verify that data submitted by the mariner matches data submitted by the training providers. If any discrepancies are found, an investigation may then be initiated, to determine the nature of the discrepancy, if any fraudulent data was submitted and whether or not the mariner should be issued the credential.

Alternatives Considered

1. No action. We rejected this alternative because potentially issuing credentials to unqualified mariners not only puts the Coast Guard at risk, but also poses a risk to the marine transportation system, other mariners, and the marine environment through increased likelihood of marine casualties and related damages associated with unqualified personnel.

2. Coast Guard-provided serial numbers for training certificates. Under this alternative, the Coast Guard would provide training providers with a list of serial numbers to use on the course completion certificates they issue to students. We rejected this alternative because to implement this alternative, the Coast Guard would need to develop an electronic system to track certificate serial numbers. Prior attempts at adding new capabilities to the MMLD have been unsuccessful. Implementing this alternative would require additional human resources to develop and manage a secondary system to track certificate numbers and increase application evaluation times due to the need to access multiple databases to verify data. None of these requirements are feasible in the immediate near-term.

This alternative also does not align with current Coast Guard initiatives to replace MMLD and transition to an electronic system for the application and issuance of MMCs. Due to the safety concerns associated with the results of investigations of mariner fraud, the Coast Guard is pursuing this proposed rule to mitigate opportunities for the NMC to accept fraudulent certificates as part of an MMC application.

3. Training providers submit course completion data to the NMC (preferred alternative). This is the selected alternative because it achieves the Coast Guard's desired benefit of providing the ability for the NMC evaluators to verify the course completion data submitted by an MMC applicant while also taking advantage of existing programs to have training providers submit records electronically. This NPRM limits the cost of the proposed rule because it would not require adding new functionality to the MMLD. We analyzed the costs and benefits of this alternative in the regulatory analysis of this proposed rule.

B. Small Entities

Under the Regulatory Flexibility Act, 5 U.S.C. 601-612, we have considered whether this proposed rule would have a significant economic impact on a substantial number of small entities. The term “small entities” comprises small businesses, not-for-profit organizations that are independently owned and operated and are not dominant in their fields, and governmental jurisdictions with populations of less than 50,000.

The impact of this proposed rule on each training provider would vary by how many Coast Guard-approved courses a training provider offers in any given year, and how many student records a training provider submits to the Coast Guard. Larger training providers that offer many courses, and thus manage more student records, would have a larger burden from the proposed rule, but they also have larger revenues. Conversely, smaller training providers that manage fewer student records would have a smaller burden under this proposed rule, but may have less revenue to mitigate the burden. To assess the potential burden on small entities, we took a random sample of the total population of Coast Guard-approved training providers and multiplied the cost per course by the number of courses each training provider offered in a year.

Of the 236 training providers that this proposed rule would affect, we took a random sample of 173 companies to achieve a 95 percent confidence interval. We found 147 of the companies in the random sample that had known revenues or employee information; 100 had both measures while 47 had only known employee information. The sample represented 59 different North American Industry Classification System codes, including schools, professional training centers, and specific trades reflecting the range of courses required to obtain mariner credentials and associated endorsements.

Out of a sample of 173 companies (training providers), we found 166 small entities overall that could potentially be affected by this proposed rule.⁹ Among the sample of 173 companies, we found 74 are small entities based on a revenue size standard, and 11 are small entities based on an employee size standard. There was insufficient information to determine the size of 81 companies, so the Coast Guard assumed that they are small entities. Overall, we found 166 small entities that could potentially be affected by this proposed rule. Table 13 presents the number of small entities based on employee size standard, revenue size standard, or other information.

⁹ The definitions for small entities was based on the July 2022 SBA Small Business Size Standards, https://www.sba.gov/sites/default/files/2022-07/Table%20of%20Size%20Standards_Effective%20July%2014%202022_Final-508.pdf, accessed Dec. 3rd, 2022.

Table 13—Number of Small Entities
Category | Number
Small entities by revenue standard | 74
Small entities by employee standard | 11
Entities assumed to be small with insufficient information | 81
Total small entities | 166
Number of entities in sample | 173

The annual impact of this proposed rule on each entity would be proportional to the number of courses offered. Here, we use the number of courses rather than the number of students because the number of Coast Guard-approved courses was known, but the number of students per training provider was not. To estimate the impact, we multiply the number of Coast Guard-approved courses offered by the estimated time burden per course in hours (see Table 6), and then multiply by the loaded hourly wage rate of the submitters. For example, if a training provider offered 2 Coast Guard-approved courses, their burden would be approximately $22.39 on the lower end (2 courses × 0.228 hours × $49.09) and approximately $135.00 on the higher end (2 courses × 1.375 hours × $49.09). For the lower cost to represent more than 1% of revenues, an entity would need to have annual revenues less than or equal to $2,244, or $13,530 on the higher end.

The mode of courses offered by small entities is 1: most small entities only offer 1 course. The mean of courses offered by small entities is 9.22.

Table 14—Number of Courses and Cost of Rule by Small Entities
Number of courses | Number of small entities | Percentage of small entities | Cost of rule, low estimate | Cost of rule, high estimate
1 | 49 | 29 | $11.19 | $67.50
2 | 17 | 10 | 22.39 | 135.00
3 | 13 | 8 | 33.58 | 202.50
4 | 16 | 10 | 44.77 | 270.00
5 | 11 | 7 | 55.96 | 337.49
6 | 3 | 2 | 67.16 | 404.99
7 | 6 | 4 | 78.35 | 472.49
8 | 4 | 2 | 89.54 | 539.99
9 | 9 | 5 | 100.73 | 607.49
10 | 6 | 4 | 111.93 | 674.99
11 | 2 | 1 | 123.12 | 742.49
12 | 5 | 3 | 134.31 | 809.99
13 | 1 | 1 | 145.50 | 877.48
14 | 2 | 1 | 156.70 | 944.98
16 | 1 | 1 | 179.08 | 1,079.98
18 | 2 | 1 | 201.47 | 1,214.98
19 | 1 | 1 | 212.66 | 1,282.48
20 | 3 | 2 | 223.85 | 1,349.98
>20 * | 16 | 10 | 358.16 | 2,159.96
Note: Percentages may not sum to 100% due to rounding.
* Estimates for the “over 20 courses” category uses a mean of 32 courses as a representative sample.

Of the small entities for whom we found revenue data, over the 10-year period of analysis, one small entity would experience an impact of greater than 1 percent of its total annual revenues on the lower end, and 6 small entities would experience an impact of greater than 1 percent of its total annual revenues on the higher end. Table 15 shows the number of small entities with a greater than 1 percent impact on their annual revenues as the percentage of the total population of small entities that we found through our analysis. While this impact is 0.60 percent at the low end and 3.01 percent at the high end of the population of small entities, this is not a substantial number of small entities out of the entire population of 303 training providers that offer at least one course.

Table 15—Estimated Initial and Annual Impact of the Proposed Rule on Small Entities
Category | Lower estimate | Higher estimate
Number of small entities where impact is greater than 1% of revenues | 1 | 6
Percentage of small entities where impact is greater than 1% of revenues | 0.60% | 3.01%

Table 16 shows the number of small entities that would be affected by the proposed rule as a percentage of the small entities' total annual revenues.

Table 16—Estimated Initial and Annual Percentage Revenue Impact of the Proposed Rule on Small Entities
Category | Lower estimate | Higher estimate
Impact <1% of revenues | 91 | 87
Impact 1 to 2% of revenues | 0 | 2
Impact 2 to 3% of revenues | 1 | 1
Impact 3 to 4% of revenues | 0 | 1
Impact greater than 4% of revenues | 0 | 1

Hence, we found that 99 percent of the small entities would fall into the 0 to 1 percent category using the lower estimate, and 96 percent of them would fall into the 0 to 1 percent category using the higher estimate. Therefore, the Coast Guard certifies under 5 U.S.C. 605(b) that this proposed rule would not have a significant economic impact on a substantial number of small entities.

If you think that your business, organization, or governmental jurisdiction qualifies as a small entity and that this proposed rule would have a significant economic impact on it, please submit a comment to the docket at the address listed in the ADDRESSES section of this preamble. In your comment, explain why you think it qualifies and how and to what degree this proposed rule would economically affect it.

C. Assistance for Small Entities

Under section 213(a) of the Small Business Regulatory Enforcement Fairness Act of 1996, Public Law 104-121, we want to assist small entities in understanding this proposed rule so that they can better evaluate its effects on them and participate in the rulemaking. If the proposed rule would affect your small business, organization, or governmental jurisdiction and you have questions concerning its provisions or options for compliance, please call or email the person in the FOR FURTHER INFORMATION CONTACT section of this proposed rule. The Coast Guard will not retaliate against small entities that question or complain about this proposed rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for a collection of information under the Paperwork Reduction Act of 1995, 44 U.S.C. 3501-3520. As defined in 5 CFR 1320.3(c), “collection of information” comprises reporting, recordkeeping, monitoring, posting, labeling, and other similar actions. The title and description of the information collections, a description of those who must collect the information, and an estimate of the total annual hour burden follow. The estimate covers the time for reviewing instructions, searching existing sources of data, gathering and maintaining the data needed, and completing and reviewing the collection.

The Paperwork Reduction Act of 1995 requires the Coast Guard to consider the impact of paperwork and other information collection burdens imposed on the public. According to the 1995 amendments to the Paperwork Reduction Act, an agency may not collect or sponsor the collection of information, nor may it impose an information collection requirement, unless it displays a currently valid OMB control number.

This action contains proposed amendments to the existing information collection requirements previously approved under OMB Control Number 1625-0028. This ICR governs all of the information collected for training provider approvals, including information required to evaluate and approve the initial course, review of these materials by the NMC, and ongoing recordkeeping requirements for each student taking a course. The proposed rule increases the hour burden of recordkeeping for each Coast Guard-approved course but does not increase the number of responses (number of Coast Guard-approved courses).

The hour burden of the ICR represents the total annual burden per Coast Guard-approved course, assuming that each Coast Guard-approved course is offered 12 times with 20 students in each class. The current hour burden is 40 hours for each Coast Guard-approved course, or 0.1667 hours for each student record. Since the regulatory analysis for the proposed rule used a range for the estimated burden, we use the higher end of the range to provide a conservative estimate of the increase in recordkeeping burden. This proposed rule would increase the hour burden per student record by 0.0688 from 0.1667 to 0.2355 hours. This creates a total increase of about 16.32 hours in the hour burden per response, from 40 hours per course (0.1667 × 20 students × 12 courses) to about 56.33 hours for each course (0.2347 × 20 students × 12 courses).

The title and description of the information collection, a description of those who must collect the information, and an estimate of the total annual burden follow. The estimates cover the time for reviewing instructions, searching existing sources of data, gathering and maintaining the data needed, and completing and reviewing the collection. The current OMB-approved number of responses is 2,757.

Title: Course Approval and Records for Merchant Mariner Training Schools.

OMB Control Number: 1625-0028.

Summary of the Collection of Information: This ICR governs all of the information collected for training provider approvals (including information required to evaluate and approve the course and any information regarding the STCW QSS manual) review of these materials by the NMC, and ongoing recordkeeping requirements for each student taking a course.

Need for Information: Title 46 of the CFR, 10.402 specifies the information that must be submitted for the Coast Guard to evaluate and approve each course. Title 46 of the CFR, section 10.403 specifies recordkeeping requirements that a Coast Guard-approved training provider offering courses must meet for each student taking each course. The Coast Guard is obligated under the STCW Convention to validate the training completed by mariners and to ensure that the approved training is monitored under a QSS.

Proposed Use of Information: NMC personnel review submitted information to ensure training courses and programs meet minimum standards for Coast Guard approval. Members of the public, including U.S. merchant mariners, attend Coast Guard-approved courses to meet regulatory requirements or to enhance their ability to perform their jobs. The agency uses the information to enforce regulations, and to compare existing courses with new international standards for specific training. The recordkeeping requirements help the Coast Guard monitor the performance of schools with Coast Guard-approved courses.

Description of the Respondents: Training providers approved to provide maritime courses or programs.

Number of Respondents: The OMB-approved number of respondents for this collection of information remains 329, who offer 3,183 courses annually. However, this proposed rule would affect 236 training providers who offer 2,255 courses annually with an estimated 55,789 student records submitted.

Frequency of Response: When a training provider requires course approval from the Coast Guard and after concluding an approved course. Training providers submit student records yearly based on the courses offered and the number of students completing those courses.

Burden of Response: The total burden per response is 56.33 hours per course, which would increase from the previously approved number of 40 hours per course.

Estimate of Annual Hour Burden: The proposed rule would increase the estimated annual burden by 36,824 hours (16.33 hours/course times 2,255 affected courses).

As required by 44 U.S.C. 3507(d), we will submit a copy of this proposed rule to OMB for its review of the collection of information.

We ask for public comment on the proposed collection of information to help us determine, among other things—

• How useful the information is;

• Whether the information can help us perform our functions better;

• How we can improve the quality, usefulness, and clarity of the information;

• Whether the information is readily available elsewhere;

• How accurate our estimate is of the burden of collection;

• How valid our methods are for determining the burden of collection; and

• How we can minimize the burden of collection.

If you submit comments on the collection of information, submit them to both the OMB and to the docket where indicated under ADDRESSES.

You need not respond to a collection of information unless it displays a currently valid control number from OMB. Before the Coast Guard could enforce the collection of information requirements in this proposed rule, OMB would need to approve the Coast Guard's request to collect this information.

E. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis follows.

It is well settled that States may not regulate in categories reserved for regulation by the Coast Guard. It is also well settled that all of the categories covered in 46 U.S.C. 7101 and 7301 (personnel qualifications of officers and ratings serving on board merchant vessels) and any other category in which Congress intended the Coast Guard to be the sole source of a vessel's obligations, are within the field foreclosed from regulation by the States. See the Supreme Court's decision in United States v. Locke, 529 U.S. 89, 120 S.Ct. 1135 (2000), which found that the states are foreclosed from regulating tanker vessels). See also Ray v. Atlantic Richfield Co., 435 U.S. 151, 157, 98 S.Ct., 988 (1978), which found that state regulation is preempted where “the scheme of federal regulation may be so pervasive as to make reasonable the inference that Congress left no room for the States to supplement it [or where] the Act of Congress may touch a field in which the federal interest is so dominant that the federal system will be assumed to preclude enforcement of state laws on the same subject.” (Citations omitted). Because this proposed rule involves the credentialing of merchant mariner officers and ratings under 46 U.S.C. 7101 and 7301 respectively, it relates to personnel qualifications for vessels subject to a pervasive scheme of Federal regulation and is therefore foreclosed from regulation by the States. Because the States may not regulate within these categories, this proposed rule is consistent with the fundamental federalism principles and preemption requirements in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988, (Civil Justice Reform), to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under DHS Management Directive 023-01, Rev. 1, associated implementing instructions, and Environmental Planning COMDTINST 5090.1 (series), which guide the Coast Guard in complying with the National Environmental Policy Act of 1969 (42 U.S.C. 4321 et seq.), and have made a preliminary determination that this action is one of a category of actions that do not individually or cumulatively have a significant effect on the human environment. A preliminary Record of Environmental Consideration supporting this determination is available in the docket. For instructions on locating the docket, see the ADDRESSES section of this preamble. This proposed rule would be categorically excluded under paragraphs L54 and L56 of Appendix A, Table 1 of DHS Instruction Manual 023-01-001-01, Rev. 1. Paragraph L54 pertains to regulations that are editorial or procedural. Paragraph L56 pertains to regulations concerning training, qualifying, licensing, and disciplining maritime personnel.

This proposed rule involves establishing a new procedure for issuing MMCs to mariners who have met the regulatory requirements for the individual endorsements as described in 46 CFR parts 11 and 12. Under this new procedure, Coast Guard-approved training providers would be required to electronically submit student course completion data to the Coast Guard within 5 business days of a course ending. The NMC would use this information to validate mariner course completion certificates submitted as part of an application for an MMC. We seek any comments or information that may lead to the discovery of a significant environmental impact from this proposed rule.

List of Subjects

46 CFR Part 10

Penalties, Personally identifiable information, Reporting and recordkeeping requirements, Seamen.

46 CFR Part 11

Penalties, Reporting and recordkeeping requirements, Schools, Seamen.

46 CFR Part 12

Penalties, Reporting and recordkeeping requirements, Schools, Seamen.

46 CFR Part 13

Cargo vessels, Reporting and recordkeeping requirements, Seamen.

46 CFR Part 15

Reporting and recordkeeping requirements, Seamen, Vessels.

46 CFR Part 16

Drug testing, Marine safety, Reporting and recordkeeping requirements, Safety, Transportation.

46 CFR Part 30

Cargo Vessels, Foreign relations, Hazardous materials transportation, Penalties, Reporting and recordkeeping requirements, Seamen.

46 CFR Part 35

Cargo vessels, Marine safety, Navigation (water), Occupational safety and health, Reporting and recordkeeping requirements, Seamen.

46 CFR Part 39

Cargo vessels, Fire prevention, Hazardous materials transportation, Marine safety, Occupational safety and health, Reporting and recordkeeping requirements.

For the reasons discussed in the preamble, the Coast Guard is proposing to amend 46 CFR parts 10, 11, 12, 13, 15, 16, 30, 35, and 39 as follows:

Title 46—Shipping

PART 10—MERCHANT MARINER CREDENTIAL

1. The authority citation for part 10 is revised to read as follows:

Authority: 14 U.S.C. 503; 31 U.S.C. 9701; 46 U.S.C. 2101, 2103, 2104, 2110; 46 U.S.C. chapter 71; 46 U.S.C. chapter 73; 46 U.S.C. chapter 75; 46 U.S.C. 7701, 8903, 8904, and 70105; Executive Order 10173; DHS Delegation No. 00170.1, Revision No. 01.3.

PART 10—[Amended]

2. Amend part 10 by, removing the following references wherever they appear and adding, in their place:

a. “crewman” to read “crewmember”;

b. “Fireman” to read “Boiler technician”;

c. “fireman” to read “boiler technician”;

d. “Hospital corpsman” to read “Medical technician”;

e. “hospital corpsman” to read “medical technician”;

f. “Lifeboatman” to read “Lifeboat operator”;

g. “lifeboatman” to read “lifeboat operator”;

h. “Pumpman” to read “Pump technician”;

i. “seaman” to read “seafarer”; and

j. “seamen” to read “seafarers”.

3. Amend § 10.107 paragraph (b) by:

a. Removing in the definition for “Apprentice mate (steersman) of towing vessels”, the word “(steersman)”;

b. Removing in the definition for “Directly supervised/direct supervision (only when referring to issues related to tankermen)”, the word “tankermen” and adding, in its place, the words “tank vessel endorsements”;

c. Removing in the definition for “Participation”, the word “tankerman” and adding, in its place, the words “tank vessel endorsements”;

d. Removing in the definition for “Qualified rating” the words “tankerman” and adding, in its place, the words “tank vessel”;

e. Removing the term “Restricted tankerman endorsement”;

f. Adding in alphabetical order the term “Restricted tank vessel endorsement”;

g. Removing in the definition for “Simulated transfer”, the word “tankerman” and adding, in its place, the words “tank vessel endorsements”;

h. Adding in alphabetical order the terms for “Tank Barge PIC”, “Tank vessel assistant”, “Tank vessel engineer”, “Tank vessel PIC”; and

i. Removing the term “Tankerman assistant”, “Tankerman engineer”, “Tankerman PIC” and “Tankerman PIC (Barge)”.

The additions read as follows:

§ 10.107 Definitions in subchapter B.

* * * * *

Restricted tank vessel endorsement means a valid tank vessel endorsement on a merchant mariner credential restricting its holder as the Coast Guard deems appropriate. For instance, the endorsement may restrict the holder to one or a combination of the following: A specific cargo or cargoes; a specific vessel or vessels; a specific facility or facilities; a specific employer or employers; a specific activity or activities (such as loading or unloading in a cargo transfer); or a particular area of water.;

* * * * *

Tank Barge PIC means a person holding a valid “Tank Barge PIC” endorsement on his or her MMC. See 46 CFR part 13, subpart C.

* * * * *

Tank vessel assistant means a person holding a valid “Tank vessel-Assistant” endorsement on his or her MMC. See 46 CFR, part 13, subpart D.;

* * * * *

Tank vessel engineer means a person holding a valid “Tank vessel-Engineer” endorsement on his or her MMC. See 46 CFR part 13, subpart E.

* * * * *

Tank vessel PIC means a person holding a valid “Tank vessel-PIC” endorsement on his or her MMC. See 46 CFR part 13, subpart B.

* * * * *

4. Revise § 10.109 paragraphs (a)(9) and (10) and (c)(1) through (6) to read as follows:

§ 10.109 Classification of endorsements.

(a) * * *

(9) Apprentice mate towing

(10) Apprentice mate towing

* * * * *

(c) * * *

(1) Tank vessel—PIC.

(2) Tank Barge—PIC.

(3) Restricted Tank vessel—PIC.

(4) Restricted Tank Barge—PIC.

(5) Tank vessel assistant.

(6) Tank vessel engineer.

* * * * *

§ 10.223 [Amended]

5. Amend § 10.223 paragraph (c)(3)(iii) by removing the words “tankerman rating” and adding, in their place, the words “tank vessel”.

§ 10.225 [Amended]

6. Amend § 10.225 paragraph (b)(3)(iii) by removing the words “tankerrating” and adding, in their place, the words “tank vessel”.

§ 10.227 [Amended]

7. Amend § 10.227 paragraphs (e)(7) and (i)(4) by removing the word “tankerman” and adding, in its place, the words “tank vessel”.

§ 10.231 [Amended]

8. Amend § 10.231 by:

a. Removing in paragraph (c)(3)(iii) by the words “tankerman rating” and adding, in their place, the words “tank vessel”.

b. Adding in paragraph (c)(6)(ii) the word “national” before the word “able” and removing the word “tankerman” and adding in its place the words “a tank vessel endorsement”.

§ 10.239 [Amended]

9. Amend § 10.239 the heading for Table 1 by removing the word “tankerman” and adding, in its place, the words “tank vessel”.

10. Amend Table 1 to § 10.302(a) by revising entry “(12) Tankerman” to read as follows:

§ 10.302 Medical and physical requirements.

* * * * *

Table 1 to § 10.302(a)—Medical and Physical Requirements for Mariner Endorsements
1 | 2 | 3 | 4 | 5
Credential | Vision test | Hearing test | General medical exam | Demonstration of physical ability
* * * * * * *
(12) Tank vessel endorsement | § 10.305(b) | § 10.306 | § 10.304(a) | § 10.304(c)
* * * * * * *

* * * * *

§§ 10.305 [Amended]

11. Amend § 10.305 paragraph (b) by removing the word “tankerman” and adding, in its place, the words “tank vessel endorsement”.

12. Amend § 10.403 by:

a. Removing in paragraph (a)(6) the words, “Effective March 24, 2014, keep” and adding, in its place, the word “Keep”; and

b. Removing in paragraph (a)(6)(iii), the word “attendance.” and adding, in its place, the words “attendance, which includes their full name, Coast Guard issued Mariner Reference Number or date of birth and place of birth if they do not have a Mariner Reference Number.”.

c. Redesignating paragraphs (a)(7), (8), and (9) as paragraphs (a)(8), (9), and (10), respectively; and

d. Adding new paragraph (a)(7).

The addition reads as follows:

§ 10.403 General Standards.

(a) * * *

(7) For each student who successfully completes an approved course or program, in a manner specified by the Coast Guard, the school must electronically submit to the Coast Guard, within 5 business days of completion, the specified information. By submitting records electronically to the Coast Guard, the submitter attests that they are accurate to the best of their knowledge and no false entries or statements were made under penalty of 18 U.S.C. 1001.

(i) The name of the school and Coast Guard-issued course provider code.

(ii) The title of the approved course or program, the Coast Guard-issued course code, and the dates the course was held.

(iii) The name of the Coast Guard approved instructor who conducted the course.

(iv) The name of the student as it appears on their MMC or valid Government-issued identification, along with their Coast Guard-issued Mariner Reference Number or date of birth and place of birth if they do not have a Mariner Reference Number.

* * * * *

PART 11—REQUIREMENTS FOR OFFICER ENDORSEMENTS

13. The authority citation for part 11 is revised to read as follows:

Authority: 14 U.S.C. 503; 31 U.S.C. 9701; 46 U.S.C. 2101, 2103, and 2110; 46 U.S.C. chapter 71; 46 U.S.C. 7502, 7505, 7701, 8903, 8904, and 70105; Executive Order 10173; DHS Delegation No. 00170.1, Revision No. 01.3. Section 11.107 is also issued under the authority of 44 U.S.C. 3507.

PART 11—[Amended]

14. Amend part 11 by, removing the following references wherever they appear, and adding in their place:

a. “fireman” to read “boiler technician”;

b. “Hospital corpsman” to read “Medical technician”;

c. “seaman” to read “seafarer”;

d. “Seaman's” to read “Seafarer's”; and

e. “seaman's” to read “seafarer's”.

§ 11.201 [Amended]

15. Amend § 11.201 by:

a. Removing in paragraphs (e)(2)(vii) the word “(steersman)”;

b. Removing in paragraph (h)(2)(ii) the words “(steersman) of the vessels” and adding, in its place, the word “towing”; and

c. Removing in paragraphs (h)(3)(ii) the word “(steersman)”.

§ 11.463 [Amended]

16. Amend § 11.463 by:

a. Removing in the section heading the word “(steersman); and

b. Removing in paragraphs (a)(4), (5), (e)(1)(ii), (e)(2)(ii), and (e)(3)(ii) the word “(steersman)” and replacing it with the word “towing”.

17. In § 11.464 amend the Table 1 in paragraph (c) by revising the entry “Route endorsed” to read as follows:

§ 11.464 Requirements for national endorsements as master of towing vessels.

(c) * * *

Table 1 to § 11.464(c)—Requirements for National Endorsement as Master of Towing Vessels
[Limited]
1: Route endorsed | 2: Total service ¹ | 3: TOS ² on T/V as limited apprentice mate towing | 4: TOAR or an approved course | 5: TOS on particular route
* * * * * * *
¹ Service is in months.
² TOS is time of service.

* * * * *

18. Amend § 11.465 by:

a. Removing in paragraph (a) the word “(steersman)”;

b. Revising in Table 1 to paragraph (a) the entry for “Route endorsed”; and

c. Revising paragraph (g).

The revisions read as follows:

§ 11.465 Requirements for national endorsements as mate (pilot) of towing vessels.

(a) * * *

Table 1 to § 11.465(a)—Requirements for National Endorsement as Mate (Pilot ¹) of Towing Vessels
1: Route endorsed | 2: Total service ² | 3: TOS ³ on T/V as apprentice mate towing ⁴ | 4: TOS on particular route | 5: TOAR ⁵ or an approved course | 6: 30 days of observation and training while holding master (limited) and pass an examination | 7: Subordinate route authorized
* * * * * * *
¹ For all inland routes, as well as Western Rivers, the endorsement as pilot of towing vessels is equivalent to that as mate of towing vessels. All qualifications and equivalencies are the same.
² Service is in months unless otherwise indicated.
³ TOS is time of service.
⁴ Time of service requirements as an apprentice mate of towing vessels may be reduced by an amount equal to the time specified in the approval letter for a completed Coast Guard-approved training program.
⁵ TOAR is a Towing Officer Assessment Record.

* * * * *

(g) An approved training course for mate (pilot) of towing vessels must include formal instruction and practical demonstration of proficiency either onboard a towing vessel or at a shoreside training facility before a designated examiner, and must cover the material (dependent upon route) required by Table 2 to § 11.910 of this part for apprentice mate, towing vessels on ocean and near-coastal routes; apprentice mate, towing vessels on Great Lakes and inland routes; or apprentice mate, towing vessels on Western Rivers routes.

* * * * *

19. Amend § 11.466 by:

a. Revising the section heading;

b. Removing in paragraph (a) the word “(steersman)”;

c. Revising the heading to Table 1 to paragraph (a) and the entries for “(1) APPRENTICE MATE (STEERSMAN)” and “(2) APPRENTICE MATE (STEERSMAN) (LIMITED)”; and

d. Revising the first sentence of paragraph (b).

The revisions read as follows:

§ 11.466 Requirements for national endorsements as apprentice mate of towing vessels.

(a) * * *

Table 1 to § 11.466(a)—Requirements for National Endorsement as Apprentice Mate of Towing Vessels
1: Endorsement | 2: Route endorsed | 3: Total service ¹ | 4: TOS ² on T/V | 5: TOS on particular route | 6: Pass examination ³
(1) APPRENTICE MATE (TOWING) | OCEANS (O) | 18 | 12 | 3 | YES.
| NEAR-COASTAL (NC) | 18 | 12 | 3 | YES.
| GREAT LAKES | 18 | 12 | 3 | YES.
| INLAND (GL-I) | 18 | 12 | 3 | YES.
| WESTERN RIVERS (WR) |  | 12 | 3 | YES.
(2) APPRENTICE MATE TOWING (LIMITED) | NOT APPLICABLE | 18 | 12 | 3 | YES.
¹ Service is in months.
² TOS is time of service.
³ The examination for apprentice mate is specified in subpart I of this part.

* * * * *

(b) Those holding a license or endorsement as apprentice mate of towing vessels may obtain a restricted endorsement as apprentice mate towing (limited). * * *

§ 11.903 [Amended]

20. Amend § 11.903 paragraphs (a)(19) and (20) by removing the word “(steersman)”.

21. In Table 1 to § 11.910 revise entries 8 and 9 to read as follows:

§ 11.910 Subjects for deck officer endorsements.

* * * * *

Table 1 to § 11.910—Codes for Deck Officer Endorsements
Deck Officer Endorsements
* * * * * * *
8. Apprentice mate, towing vessels, Great Lakes, and inland routes.
9. Apprentice mate, towing vessels, Western Rivers.
* * * * * * *

* * * * *

PART 12—REQUIREMENTS FOR RATING ENDORSEMENTS

22. The authority citation for part 12 is revised to read as follows:

Authority: 31 U.S.C. 9701; 46 U.S.C. 2101, 2103, 2110, Chapter 73, 7503, 7505, 7701, and 70105; DHS Delegation No. 00170.1, Revision No. 01.3.

PART 12 [Amended]

23. Amend part 12 by, removing the following references wherever they appear, and adding in their place:

a. “Crewman” to read “Crewmember”;

b. “crewman” to read “crewmember”;

c. “Fireman” to read “Boiler technician”;

d. “fireman” to read “boiler technician”;

e. “lifeboatman” to read “lifeboat operator”;

f. “Pumpman” to read “Pump technician”;

g. “pumpman” to read “pump technician”;

h. “seaman” to read “seafarer”;

i. “seaman's” to read “seafarer's”;

j. “seamen” to read “seafarers”; and

k. “tankerman” to read “tank vessel endorsement”;

§ 12.401 [Amended]

24. Amend § 12.401 by:

a. Removing in paragraph (a), the words “or merchant mariner document (MMD)”; and

b. Removing in paragraph (d)(2), the words “After March 24, 2014, any” and adding, in their place, the word “Any”.

PART 13—CERTIFICATION OF TANKERMEN

25. The authority citation for part 13 is revised to read as follows:

Authority: 46 U.S.C. 3703, 7317, 8105, 8703, 9102; DHS Delegation No. 00170.1, Revision No. 01.3.

PART 13—[Amended]

26. Revise the heading to part 13 to read as follows:

PART 13—CERTIFICATION OF TANK VESSEL PERSONNEL

27. Amend part 13 by, removing the following references wherever they appear, and adding in their place:

a. “Tankerman” to read “Tank Vessel”;

b. “tankerman” to read “tank vessel”;

c. “Tankerman-PIC (Barge)” to read “Tank Barge-PIC”; and

d. “tankerman-PIC (barge)” to read “tank barge-PIC”.

§ 13.107 [Amended]

28. Amend § 13.107 by removing the word “endorsement” from the section heading and adding, in its place, the word “endorsements”.

§ 13.111 [Amended]

29. Amend § 13.111 by removing the word “endorsement” from the section heading and adding, in its place, the word “endorsements”.

30. Revise § 13.117 to read as follows:

§ 13.117 Re-issuance of expired tank vessel endorsements.

Whenever an applicant applies for re-issuance of any tank vessel endorsement more than 12 months after expiration of the previous endorsement, the applicant must meet the requirements for an original endorsement.

31. Revise § 13.119 to read as follows:

§ 13.119 Expiration of endorsement.

A tank vessel endorsement is valid for the duration of the merchant mariner credential on which the endorsement appears.

§ 13.123 [Amended]

32. Amend § 13.123 by removing the word “endorsement” from the section heading and adding, in its place, the word “endorsements”.

§ 13.201 [Amended]

33. Amend § 13.201 paragraph (c)(3) by removing the words “a license”.

§ 13.203 [Amended]

34. Amend § 13.203 paragraph (c) introductory text by removing the words “MMD or”.

§ 13.303 [Amended]

35. Amend § 13.303 paragraph (c) introductory word by removing the words “MMD or”.

§ 13.305 [Amended]

36. Amend § 13.305 by removing the word “shore-based tankermen” and adding, in its place, the word “shore-based PICs”.

§ 13.401 [Amended]

37. Amend § 13.401 paragraph (d) by removing the word “license”.

§ 13.403 [Amended]

38. Amend § 13.403 paragraph (a) introductory text by removing the words “MMD or”.

§ 13.501 [Amended]

39. Amend § 13.501 paragraph (c)(3) by removing the word “license”.

§ 13.503 [Amended]

40. Amend § 13.503 paragraph (b) by removing the words “MMD or”.

§ 13.603 [Amended]

41. Amend § 13.603 by removing paragraph (e).

§ 13.605 [Amended]

42. Amend § 13.605 by removing paragraph (e).

§ 13.607 [Amended]

43. Amend § 13.607 by removing paragraph (e).

§ 13.609 [Amended]

44. Amend § 13.609 by removing paragraph (b).

§ 13.611 [Amended]

45. Amend § 13.611 by removing paragraph (b).

PART 15—MANNING REQUIREMENTS

46. The authority citation for part 15 is revised to read as follows:

Authority: 46 U.S.C. 2101, 2103, 3306, 3703, 8101, 8102, 8103, 8104, 8105, 8301, 8304, 8502, 8503, 8701, 8702, 8901, 8902, 8903, 8904, 8905(b), 8906 and 9102; sec. 617, Pub. L. 111-281, 124 Stat. 2905; and DHS Delegation No. 00170.1, Revision No. 01.3.

PART 15—[Amended]

47. Amend part 15 by, removing the following references wherever they appear, and adding in their place:

a. “Lifeboatman” to read “Lifeboat operator”;

b. “lifeboatman” to read “lifeboat operator”;

c. “lifeboatman's” to read “lifeboat operator's”;

d. “Lifeboatmen” to read “Lifeboat operators”;

e. “lifeboatmen” to read “lifeboat operators”;

f. “pumpman” to read “pump technician”;

g. “seaman” to read “seafarer”;

h. “Seamen” to read “Seafarers”; and

i. “seamen” to read “seafarers”.

§ 15.403 [Amended]

48. In § 15.403 paragraph (a), remove the words “or MMD”.

§ 15.404 [Amended]

49. In § 15.404 paragraph (h), remove the words “MMD or”.

§ 15.840 [Amended]

50. In § 15.840 paragraph (c), removing the word “ratings” and adding, in its place, the word “rating”.

51. Revise § 15.860 to read as follows:

§ 15.860 Tank Vessel endorsements.

(a) The OCMI enters on the COI issued to each manned tank vessel subject to the regulations in this chapter the number of crewmembers required to hold valid MMCs with the proper tanker vessel endorsement. Table 1 to § 15.860(a) of this section provides the minimum required for tank vessel endorsements aboard manned tank vessels. Table 2 to § 15.860(a) of this section provides the tank vessel endorsements required for personnel aboard tankships.

Table 1 to § 15.860(a)—Minimum Requirements for Tank Vessel Personnel Aboard Manned Tank Vessels
Tank vessels | Tank vessel-PIC | Tank vessel assistant | Tank vessel engineer | Tank vessel- PIC or tank barge-PIC
Tankship Certified for Voyages Beyond Boundary Line:
Over 5,000 GRT | 2 | 3 | 2 |
5,000 GRT or less | 2 |  | ¹ 2 |
Tankship Not Certified for Voyages Beyond Boundary Line | ² 2 |  |  |
Tank Barge |  |  |  | ² 2
¹ If only one engineer is required, then only one tank vessel-engineer is required.
² If the total crew complement is one or two persons, then only one tank vessel-PIC is required.
³ If the total crew complement is one or two persons, then only one tank vessel-PIC or tank vessel-PIC (barge) is required.

Table 2 to § 15.860(a)—Tank Vessel Endorsements Required for Personnel Aboard Tankships
[Endorsement for the classification of the bulk liquid cargo or residues carried]
Tankship certified for voyages beyond boundary line | Tank vessel-PIC |  | Tank vessel engineer | Tank vessel assistant
Master | X
Chief Mate | X
Chief Engineer | X | or | X
First Assistant Engineer | X | or | X
Cargo Engineer | X | or | X
Credentialed Officer Acting as PIC of Transfer of Liquid Cargo in Bulk | X
Credentialed Officer or Crewmember Not Directly Supervised by PIC |  |  |  | X

(b) For each tankship of more than 5,000 GRT certified for voyages beyond the boundary line as described in part 7 of this chapter—

(1) At least two tank vessel-PICs or restricted tank vessel-PICs must be carried;

(2) At least three tank vessel-assistants must be carried; and

(3) At least two tank vessel-engineers must be carried.

(c) For each tankship of 5,000 GRT or less certified for voyages beyond the boundary line, as described in part 7 of this chapter

(1) At least two tank vessel-PICs or restricted tank vessel-PICs must be carried; and

(2) At least two tank vessel-engineers must be carried, unless only one engineer is required, in which case at least one tank vessel-engineer must be carried.

(d) For each tankship not certified for voyages beyond the boundary line, as described in part 7 of this chapter, if the total crew complement is—

(1) One or two, at least one tank vessel-PIC or restricted tank vessel-PIC must be carried; or

(2) More than two, at least two tank vessel-PICs or restricted Tank vessel-PICs must be carried.

(e) For each tank barge manned under § 31.15-5 of this chapter, if the total crew complement is—

(1) One or two, at least one tank vessel-PIC, restricted tank vessel-PIC, tank barge-PIC, or restricted tank barge-PIC must be carried; or

(2) More than two, at least two tank vessel-PICs, restricted Tank vessel-PICs, tank barge-PICs, or restricted tank barge-PICs must be carried.

(f) The following personnel aboard each tankship certified for voyages beyond the boundary line, as described in part 7 of this chapter, must hold valid MMCs, endorsed as follows:

(1) The master and chief mate must each hold a tank vessel-PIC or restricted tank vessel-PIC endorsement.

(2) The chief, first assistant, and cargo engineers must each hold a Tank vessel-engineer or tank vessel-PIC endorsement.

(3) Each credentialed officer acting as the PIC of a transfer of liquid cargo in bulk must hold a tank vessel-PIC or restricted tank vessel-PIC endorsement.

(4) Each officer or crewmember who is assigned by the PIC duties and responsibilities related to the cargo or cargo-handling equipment during a transfer of liquid cargo in bulk, but is not directly supervised by the PIC, must hold a tank vessel-assistant endorsement.

(g) The endorsements required by this section must be for the classification of the liquid cargo in bulk or of the cargo residue being carried.

(h) All individuals serving on tankships certified for voyages beyond the boundary line, as described in part 7 of this chapter, must hold an appropriate STCW endorsement, as follows:

(1) For tank vessel-PIC, an STCW endorsement as Advanced Oil Tanker Cargo Operations, Advanced Chemical Tanker Cargo Operations, or Advanced Liquefied Gas Tanker Cargo Operations, as appropriate.

(2) For tank vessel-Assistant, an STCW endorsement as Basic Oil and Chemical Tanker Cargo Operations, or Basic Liquefied Gas Tanker Cargo Operations, as appropriate.

(3) For a tank barge-PIC, an STCW endorsement as Advanced Oil Tanker Cargo Operations, Advanced Chemical Tanker Cargo Operations, or Advanced Liquefied Gas Tanker Cargo Operations, as appropriate, including endorsements with a limitation for non-self-propelled vessels.

(4) For a tank vessel-engineer, an STCW endorsement as Advanced Oil Tanker Cargo Operations, or Advanced Chemical Tanker Cargo Operations, as appropriate, including endorsements with a limitation to maintenance and repair of cargo equipment.

PART 16—CHEMICAL TESTING

52. The authority citation for part 16 is revised to read as follows:

Authority: 46 U.S.C. 2103, 3306, 7101, 7301, and 7701; DHS Delegation No. 00170.1, Revision No. 01.3.

53. Revise § 16.220 paragraph (a)(4) to read as follows:

§ 16.220 Periodic testing requirements.

(a) * * *

(4) The first endorsement as an able seafarer, lifeboat operator, qualified member of the engine department, or a tank vessel endorsement; or

* * * * *

PART 30—GENERAL PROVISIONS

54. The authority citation for part 30 is revised to read as follows:

Authority: 46 U.S.C. 2103, 3306, 3703; DHS Delegation No. 00170.1, Revision No. 01.3.

55. Revise § 30.10-71 to read as follows:

§ 30.10-71 Tank Vessel Endorsements—TB/ALL.

The following ratings are established in part 13 of this chapter. The terms for the ratings identify persons holding valid endorsements for service in the ratings issued under that part:

(a) Tank vessel-PIC.

(b) Tank barge-PIC.

(c) Restricted tank vessel-PIC.

(d) Restricted tank barge-PIC.

(e) Tank vessel-Assistant.

(f) Tank vessel-Engineer.

PART 35—OPERATIONS

56. The authority citation for part 35 is revised to read as follows:

Authority: 33 U.S.C. 1321(j); 46 U.S.C. 3306, 3703, 6101, 70011, 70034; 49 U.S.C. 5103, 5106; Executive Order 12234, 45 FR 58801, 3 CFR, 1980 Comp., p. 277; Executive Order 12777, 56 FR 54757, 3 CFR, 1991 Comp., p. 351; DHS Delegation No. 00170.1, Revision No. 01.3.

57. Revise § 35.30-5 to read as follows:

§ 35.30-5 Fires, matches, and smoking—TB/ALL.

(a) General. In making the determinations required under paragraphs (b), (c), and (d) of this section the senior deck officer on duty, who must be a credentialed officer or have an appropriate tank vessel endorsement, must exercise their skill and experience with due regard to attendant conditions and circumstances, including consideration for location of shore side facilities, maintenance of mobility, provision for fire protection, state or change of winds, tides, sea, weather conditions, forces of nature, and other circumstances generally beyond human control.

(b) Boiler fires. Boiler fires are normally permitted during cargo transfer operations: Provided, that before loading Grades A, B, and C cargoes, the senior deck officer on duty, who must be a credentialed officer or have an appropriate tank vessel endorsement, must make an inspection to determine whether in their judgment boiler fires may be maintained with reasonable safety during the loading operation.

(c) Smoking. Smoking is prohibited on the weather decks of tank vessels when they are not gas-free or are alongside docks. At other times and places the senior deck officer on duty, who must be a credentialed officer or have an appropriate tank vessel endorsement, must designate when and where the crew may smoke: Provided, that before loading Grade A, B, or C cargo the master or senior deck officer on duty must make an inspection to determine if and where, in their judgment, smoking may be permitted with reasonable safety during the loading operation.

(d) Matches. The use of other than safety matches is forbidden aboard tank vessels at all times.

§ 35.35-1 [Amended]

58. Amend § 35.35-1 paragraph (a)(1) by:

a. Removing the word “Tankerman-PICs” wherever it appears, and adding, in its place, the words “Tank vessel-PIC”; and

b. Removing the word “Tankerman-Assistants” and adding, in its place, the words “Tank vessel-Assistants”.

PART 39—VAPOR CONTROL SYSTEMS

59. The authority citation for part 39 is revised to read as follows:

Authority: 42 U.S.C. 7511b(f)(2); 46 U.S.C. 3306, 3703, 3715(b), 70011, 70034; E.O. 12234, 45 FR 58801, 3 CFR, 1980 Comp., p. 277; DHS Delegation No. 00170.1, Revision No. 01.3.

60. Revise § 39.5003 paragraph (c) to read as follows:

§ 39.5003 Additional requirements for multi-breasted loading using an inboard barge vapor collection system—B/CLBR.

* * * * *

(c) Persons holding an appropriate tank vessel endorsement trained in and familiar with multi-breasted loading operations, must be onboard each barge during transfer operations. The tank barge (PIC) serves as the barge person-in-charge (PIC). During transfer operations, the barge PICs must maintain constant communication with each other as well as with the facility PIC.

* * * * *

Dated: March 24, 2023.
Amy M. Beach,
Captain, U.S. Coast Guard, Acting, Assistant Commandant for Prevention Policy.

[FR Doc. 2023-06472 Filed 5-4-23; 8:45 am]

BILLING CODE 9110-04-P